DEPARTMENT OF HEALTH AND HUMAN SERVICES

Agency for Toxic Substances and Disease Registry

[ATSDR-201]

Public Health Assessments Completed

AGENCY: Agency for Toxic Substances and Disease Registry (ATSDR), Department of Health and Human Services (HHS).

ACTION: Notice.

SUMMARY: This notice announces those sites for which ATSDR has completed public health assessments during January-March 2004. This notice also includes sites for which ATSDR has completed public health assessments during August 2002 through September 2003, that were erroneously omitted from previously submitted notices. This list includes sites that are on or proposed for inclusion on the National Priorities List (NPL), and includes sites for which assessments were prepared in response to requests from the public.

FOR FURTHER INFORMATION CONTACT: William Cibulas, Jr., Ph.D., Acting Director, Division of Health Assessment and Consultation, Agency for Toxic Substances and Disease Registry, 1600 Clifton Road, NE., Mailstop E-32, Atlanta, Georgia 30333, telephone (404) 498-0140.

SUPPLEMENTARY INFORMATION: The most recent list of completed public health assessments was published in the Federal Register on August 28, 2003 (68 FR 51785). This announcement is the responsibility of ATSDR under the regulation, Public Health Assessments and Health Effects Studies of Hazardous Substances Releases and Facilities [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments are available for public inspection at the Division of Health Assessment and Consultation, Agency for Toxic Substances and Disease Registry, Century Center, 1825 Century Boulevard, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (800) 553-6847. NTIS charges for copies of public health assessments. The NTIS order numbers are listed in parentheses after the site names.

Public Health Assessments Completed or Issued

During January 1-March 31, 2004, public health assessments were issued for the sites listed below. This list also includes public health assessments issued from August 1, 2002, through September 30, 2003, that were previously omitted.

NPL Sites

Alabama

American Brass, Incorporated—(PB2004-100029).

Arizona

Rodeo-Chediski Fire—(PB2004-100088).

California

Pemaco Maywood—(PB2003-103833).

Lawrence Livermore National Laboratory, Main Site (U.S. Department of Energy (DOE))—(PB2004-100023).

Lawrence Livermore National Laboratory, Main Site (U.S. DOE) (PB2003-106511).

Alark Hard Chrome—(PB2004-100086).

Colorado

Vasquez Boulevard and I70—(PB2003-107173).

Florida

Kerr-McGee, Incorporated (a/k/a Kerr-McGee Chemical Corporation)—(PB2004-100021).

Georgia

Terry Creek Dredge Spoil Areas/Hercules Outfall Site—(PB2003-100173).

Idaho

Stibnite/Yellow Pine Mining Area—(PB2004-100032).

Illinois

Old American Zinc Plant—(PB2003-105756).

Louisiana

Louisiana Army Ammunition Plant—(PB2003-105780).

Maine

Eastern Surplus Company Site—(PB2003-103829).

Massachusetts

Sutton Brook Disposal Area—(PB2003-104569).

General Electric Site-Newell Street Area I (a/k/a GE—Housatonic River)—(PB2004-100028).

General Electric Site-East Street Area I (a/k/a GE—Housatonic River)—(PB2004-100059).

General Electric Site-Newell Street Area II (a/k/a GE—Housatonic River)—(PB2004-100027).

Mississippi

Davis Timber Company—(PB2003-102198).

Montana

Lockwood Solvent Groundwater Plume (a/k/a Lockwood Solvent Ground Water Plume)—(PB2003-106078).

Libby Asbestos NPL Site—(PB2003-104518).

Nevada

Naval Air Station Fallon (a/k/a Fallon Naval Air Station)—(PB2003-106448).

New Hampshire

Electrosonics/Spofford Place (Former)—(PB2003-101567).

New Jersey

Quanta Resources Corporation—(PB2003-100507).

Naval Air Engineering Center, Lakehurst (a/k/a Naval Air Engineering Station, Lakehurst)—(PB2003-106077).

Dismal Swamp Site (a/k/a Woodbrook Road Dump)—(PB2003-105781).

Atlantic Resources Corporation—(PB2003-103830).

New Mexico

North Railroad Avenue Plume—(PB2004-100030).

New York

Shenandoah Road Groundwater Contamination—(PB2004-100033).

Texas

Brine Service Company—(PB2003-103831).

Patrick Bayou—(PB2003-103832).

Utah

Tooele Army Depot (North Area)—(PB2004-100031).

Hill Air Force Base—(PB2003-104652).

Virginia

Norfolk Naval Base (a/k/a Sewells Point Naval Complex)—(PB2003-100521).

Wisconsin

Ackerville Area Groundwater (a/k/a Town of Polk Landfill (Former))—(PB2003-106552).

Non-NPL Petitioned Sites

Puerto Rico

Isla de Vieques Bombing Range (Soil Pathway Evaluation)—(PB2003-104184).

Isla de Vieques Bombing Range (Fish & Shellfish Evaluation)—(PB2003-106449).

Isla de Vieques Bombing Range (Air Pathway Evaluation)—(PB2004-100087).

Dated: June 30, 2004.
Georgi Jones,
Director, Office of Policy, Planning, and Evaluation, National Center for Environmental Health/Agency for Toxic Substances and Disease Registry.

[FR Doc. 04-15566 Filed 7-8-04; 8:45 am]

BILLING CODE 4163-70-P